DEPARTMENT OF TRANSPORTATION

Federal Aviation Administration

14 CFR Part 39

[Docket No. FAA-2010-0437; Directorate Identifier 2009-NM-130-AD]

RIN 2120-AA64

Airworthiness Directives; The Boeing Company Model 737-200, -300, -400, and -500 Series Airplanes

AGENCY: Federal Aviation Administration (FAA), DOT.

ACTION: Notice of proposed rulemaking (NPRM).

SUMMARY: We propose to adopt a new airworthiness directive (AD) for certain Model 737-200, -300, -400, and -500 series airplanes. This proposed AD would require repetitive inspections for cracking of certain fuselage frames and stub beams, and corrective actions if necessary. This proposed AD also provides for an optional repair, which would terminate the repetitive inspections. For airplanes on which a certain repair is done, this proposed AD would also require repetitive inspections for cracking of certain fuselage frames and stub beams, and corrective actions if necessary. This proposed AD results from reports of the detection of fatigue cracks at certain frame sections, in addition to stub beam cracking, caused by high flight cycle stresses from both pressurization and maneuver loads. We are proposing this AD to detect and correct fatigue cracking of certain fuselage frames and stub beams and possible severed frames, which could result in reduced structural integrity of the frames. This reduced structural integrity can increase loading in the fuselage skin, which will accelerate skin crack growth and could result in rapid decompression of the fuselage.

DATES: We must receive comments on this proposed AD by June 21, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Boeing Commercial Airplanes, Attention: Data & Services Management, P.O. Box 3707, MC 2H-65, Seattle, Washington 98124-2207; telephone 206-544-5000, extension 1, fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Wayne Lockett, Aerospace Engineer, Airframe Branch, ANM-120S, FAA, Seattle Aircraft Certification Office, 1601 Lind Avenue, SW., Renton, Washington 98057-3356; telephone (425) 917-6447; fax (425) 917-6590.

SUPPLEMENTARY INFORMATION:

Comments Invited

We invite you to send any written relevant data, views, or arguments about this proposed AD. Send your comments to an address listed under the ADDRESSES section. Include “Docket No. FAA-2010-0437; Directorate Identifier 2009-NM-130-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received reports of fatigue cracks at certain frame sections, in addition to stub beam cracking. The fatigue cracking is caused by high flight cycle stresses from both pressurization and maneuver loads. Reduced structural integrity of the frames can increase loading in the fuselage skin, which will accelerate skin crack growth and could result in rapid decompression of the fuselage.

Relevant Service Information

We have reviewed Boeing Alert Service Bulletin 737-53A1254, Revision 1, dated July 9, 2009. The service bulletin describes procedures for, among other actions, repetitive detailed inspections for cracks in the body station (BS) 616 and BS 639 frame webs, inner chord, and outer chord, and the stub beam, and corrective actions if necessary. The corrective actions include repair of any cracking before further flight. The procedures also recommend contacting Boeing for repair instructions for certain cracking and repairing before further flight.

As an option to the detailed inspection, the service bulletin describes procedures for a high frequency eddy current (HFEC) inspection for cracks in the same areas, and repair of any crack found. The service bulletin also describes procedures for doing a detailed inspection of the inner chord along the length of the repair and around the fastener heads if a repair or preventative modification exists on the inner chord below the floor that prevents the accomplishment of the detailed or HFEC inspection in that area.

For airplanes on which a certain repair is done, the service bulletin describes procedures for repetitive detailed or HFEC inspections for cracking of the replacement frame section (frame webs, inner chord, and outer chord), and contacting Boeing for repair instructions if any crack is found, and repairing before further flight.

FAA's Determination and Requirements of This Proposed AD

We are proposing this AD because we evaluated all relevant information and determined the unsafe condition described previously is likely to exist or develop in other products of the same type design. This proposed AD would require accomplishing the actions specified in the service information described previously, except as discussed under “Differences Between the Proposed AD and Boeing Alert Service Bulletin 737-53A1254, Revision 1, dated July 9, 2009.”

Differences Between the Proposed AD and Boeing Alert Service Bulletin 737-53A1254, Revision 1, Dated July 9, 2009

Although the service bulletin specifies economic inspections and repairs of BS 597 and BS 601 frames, this proposed AD would not require those inspections and repairs.

Although the service bulletin does not address accomplishing the inspections for airplanes on which fewer than 15,000 total flight cycles have been accumulated, this proposed AD would require the inspections on those airplanes.

The service bulletin specifies to contact the manufacturer for instructions on repairing cracks, but this proposed AD would require repairing cracks in one of the following ways:

• Using a method that we approve; or

• Using data that meet the certification basis of the airplane, and that have been approved by the Boeing Commercial Airplanes Organization Designation Authorization (ODA) that we have authorized to make those findings.

Costs of Compliance

We estimate that this proposed AD would affect 635 airplanes of U.S. registry. The following table provides the estimated costs for U.S. operators to comply with this proposed AD.

Estimated Costs
Action | Work hours | Average labor rate per hour | Cost per product | Number of U.S.-registered airplanes | Fleet cost
BS 616 and BS 639 inspection/lower frame and stub beam | 15 | $85 | $1,275, per inspection cycle | 635 | $809,625 per inspection cycle.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

The Boeing Company: Docket No. FAA-2010-0437; Directorate Identifier 2009-NM-130-AD.

Comments Due Date

(a) We must receive comments by June 21, 2010.

Affected ADs

(b) None.

Applicability

(c) This AD applies to The Boeing Company Model 737-200, -300, -400, and -500 series airplanes, certificated in any category; as identified in Boeing Alert Service Bulletin 737-53A1254, Revision 1, dated July 9, 2009.

Subject

(d) Air Transport Association (ATA) of America Code 53: Fuselage.

Unsafe Condition

(e) This AD results from the detection of fatigue cracks at certain frame sections, in addition to stub beam cracking, caused by high flight cycle stresses from both pressurization and maneuver loads. The Federal Aviation Administration is issuing this AD to detect and correct fatigue cracking of certain fuselage frames and stub beams and possible severed frames, which could result in reduced structural integrity of the frames. This reduced structural integrity can increase loading in the fuselage skin, which will accelerate skin crack growth and could result in rapid decompression of the fuselage.

Compliance

(f) You are responsible for having the actions required by this AD performed within the compliance times specified, unless the actions have already been done.

Repetitive Inspections and Corrective Actions

(g) At the applicable time specified in paragraph (g)(1), (g)(2), or (g)(3) of this AD: Do a detailed or high frequency eddy current (HFEC) inspection for cracking of body station (BS) 616 and BS 639 frame webs, inner chord, and outer chord, and the stub beams; and do all applicable related investigative and corrective actions; by accomplishing all the actions specified in Part 1 of the Accomplishment Instructions of Boeing Alert Service Bulletin 737-53A1254, Revision 1, dated July 9, 2009, except as specified in paragraphs (i) and (j) of this AD. Do all applicable related investigative and corrective actions before further flight. Thereafter, repeat the inspection at intervals not to exceed 4,500 flight cycles since accomplishing the detailed inspection or at intervals not to exceed 9,000 flight cycles since accomplishing the HFEC inspection, as applicable.

(1) For airplanes on which no inspection of the BS 616 and BS 639 frames specified in Boeing Alert Service Bulletin 737-53A1254, dated February 17, 2005, has been done as of the effective date of this AD, and that have accumulated fewer than 55,000 total flight cycles as of the effective date of this AD: Inspect within 3,000 flight cycles after the effective date of this AD, or before the accumulation of 56,500 total flight cycles, whichever occurs first.

(2) For airplanes on which no inspection of the BS 616 and BS 639 frames specified in Boeing Alert Service Bulletin 737-53A1254, dated February 17, 2005, has been done as of the effective date of this AD, and that have accumulated 55,000 or more total flight cycles as of the effective date of this AD: Inspect within 1,500 flight cycles after the effective date of this AD.

(3) For airplanes on which a detailed or HFEC inspection of the BS 616 and BS 639 frames, specified in Boeing Alert Service Bulletin 737-53A1254, dated February 17, 2005, has been done as of the effective date of this AD: Inspect at the later of the times specified in paragraphs (g)(3)(i) and (g)(3)(ii) of this AD.

(i) Within 3,000 flight cycles after the effective date of this AD.

(ii) Within 4,500 flight cycles after the previous inspection done in accordance with Boeing Alert Service Bulletin 737-53A1254, dated February 17, 2005.

Post-Repair Repetitive Inspections and Corrective Actions

(h) For airplanes on which the repair specified in Part 4 of the Accomplishment Instructions of Boeing Alert Service Bulletin 737-53A1254, Revision 1, dated July 9, 2009, has been done: At the applicable time specified in paragraphs (h)(1) and (h)(2) of this AD, do a detailed or HFEC inspection for cracking of the replacement frame section (frame webs, inner chord, and outer chord); and do all applicable related investigative and corrective actions; by accomplishing all the actions specified in Part 1 of the Accomplishment Instructions of Boeing Alert Service Bulletin 737-53A1254, Revision 1, dated July 9, 2009, except as specified in paragraphs (i) and (j) of this AD. Do all applicable related investigative and corrective actions before further flight. Thereafter, repeat the inspection at intervals not to exceed 4,500 flight cycles since accomplishing the detailed inspection or at intervals not to exceed 9,000 flight cycles since accomplishing the HFEC inspection, as applicable.

(1) For airplanes on which a partial frame splice repair at BS 616 or BS 639 has been done, and the inner chord and web have been cold-worked: Inspect within 44,000 flight cycles after the repair has been done.

(2) For airplanes on which a partial frame splice repair at BS 616 or BS 639 has been done, and the inner chord and web have not been cold-worked: Inspect within 29,000 flight cycles after that repair has been done.

Alternative Inspection of Repaired or Modified Area

(i) For airplanes on which a repair or preventative modification exists on the inner chord below the floor which prevents the accomplishment of the detailed or HFEC inspection in that area as required by paragraph (g) of this AD: In lieu of inspecting that area, do a detailed inspection of the inner chord along the length of the repair and around the fastener heads in accordance with Part 1 of the Accomplishment Instructions of Boeing Alert Service Bulletin 737-53A1254, Revision 1, dated July 9, 2009.

Exceptions to Service Information

(j) Where Boeing Alert Service Bulletin 737-53A1254, Revision 1, dated July 9, 2009, specifies to contact Boeing for repair instructions and repair: Before further flight, repair the cracking using a method approved in accordance with the procedures specified in paragraph (m) of this AD.

(k) Although Boeing Alert Service Bulletin 737-53A1254, Revision 1, dated July 9, 2009, specifies to submit information to the manufacturer, this AD does not include that requirement.

Terminating Action

(l) Doing the repair specified in Part 4 of Boeing Alert Service Bulletin 737-53A1254, Revision 1, dated July 9, 2009, terminates the repetitive inspection requirements of paragraph (g) of this AD for the repaired frame only.

Alternative Methods of Compliance (AMOCs)

(m)(1) The Manager, Seattle Aircraft Certification Office (ACO), FAA, has the authority to approve AMOCs for this AD, if requested using the procedures found in 14 CFR 39.19. Send information to ATTN: Wayne Lockett, Aerospace Engineer, Airframe Branch, ANM-120S, FAA, Seattle Aircraft Certification Office, 1601 Lind Avenue SW., Renton, Washington 98057-3356; telephone (425) 917-6447; fax (425) 917-6590. Or, e-mail information to 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

(3) An AMOC that provides an acceptable level of safety may be used for any repair required by this AD, if it is approved by an Authorized Representative for the Boeing Commercial Airplanes Organization Designation Authorization (ODA) that has been authorized by the Manager, Seattle ACO, to make those findings. For a repair method to be approved, the repair must meet the certification basis of the airplane.

Issued in Renton, Washington, on April 28, 2010.
Jeffrey E. Duven,
Acting Manager, Transport Airplane Directorate, Aircraft Certification Service.

[FR Doc. 2010-10902 Filed 5-6-10; 8:45 am]

BILLING CODE 4910-13-P